DEPARTMENT OF ENERGY

Federal Energy Regulatory Commission

[Docket No. CP07-51-000]

Gulfstream Natural Gas System, L.L.C.; Notice of Availability of the Environmental Assessment for the Proposed Gulfstream Phase IV Project

June 19, 2007.

The staff of the Federal Energy Regulatory Commission (FERC or Commission) has prepared an environmental assessment (EA) on the natural gas pipeline facilities proposed by Gulfstream Natural Gas System, L.L.C. (Gulfstream) in the above-referenced docket.

The EA was prepared to satisfy the requirements of the National Environmental Policy Act. The staff concludes that approval of the proposed project, with appropriate mitigating measures, would not constitute a major federal action significantly affecting the quality of the human environment.

The EA assesses the potential environmental effects of the construction and operation of approximately 17.73 miles of 20-inch diameter offshore pipeline and 0.01 miles of 20-inch diameter onshore pipeline. Compression would be added at two locations within the existing Gulfstream System. One 15,000 horsepower (HP) turbine-driven compressor unit would be installed at Gulfstream's existing Compressor Station 410 in Mobile County, Alabama. A new 30,000 HP turbine-driven compressor station would be constructed at the existing pressure-reduction Station 420 site in Manatee County, Florida at MP 427.8 (Line 200).

Progress Energy Florida, Inc. (Progress Energy) is scheduled to re-power their Bartow Plant in Pinellas County, Florida. The 472-megawatt (MW) oil-fired plant is scheduled to be re-powered with three combined cycle gas turbines that will generate 1,100 MW of power. Natural gas consumption is expected to be approximately 155 thousand decatherms per day (Mdth/d). Gulfstream has executed an agreement to enter into a long-term service agreement with Progress Energy to provide 155 Mdth/d of firm natural gas transportation service to the Bartow Plant. In order to provide the requested transportation service, it is necessary for Gulfstream to expand its current system with the facilities listed in the preceding paragraph and described in the EA.

The EA has been placed in the public files of the FERC. A limited number of copies of the EA are available for distribution and public inspection at: Federal Energy Regulatory Commission, Public Reference Room, 888 First Street, NE., Room 2A, Washington, DC 20426, (202) 502-8371.

Copies of the EA have been mailed to Federal; State; and local agencies; public interest groups; individuals who have requested the EA; libraries; newspapers; and parties to this proceeding.

Any person wishing to comment on the EA may do so. To ensure consideration prior to a Commission decision on the proposal, it is important that we receive your comments before the date specified below. Please carefully follow these instructions to ensure that your comments are received in time and properly recorded:

• Send an original and two copies of your comments to: Secretary, Federal Energy Regulatory Commission, 888 First St., NE., Room 1A, Washington, DC 20426;

• Label one copy of the comments for the attention of the Gas Branch 3;

• Reference Docket No. CP07-51-000; and

• Mail your comments so that they will be received in Washington, DC on or before July 19, 2007.

The Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Sign-up.”

Comments will be considered by the Commission but will not serve to make the commenter a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Kimberly D. Bose,
Secretary.

[FR Doc. E7-12305 Filed 6-25-07; 8:45 am]

BILLING CODE 6717-01-P